COMMISSION ON CIVIL RIGHTS

Meeting; Sunshine Act Notice

AGENCY: U.S. Commission on Civil Rights.

DATE AND TIME: Friday, March 9, 2001, 9:30 a.m.

PLACE: U.S. Commission on Civil Rights, 624 Ninth Street, NW., Room 540, Washington, DC 20425.

STATUS:

Agenda

I. Approval of Agenda.

II. Approval of Minutes of February 16, 2001 Meeting.

III. Announcements.

IV. Staff Director's Report.

V. Project Planning.

VI. Status Report on Voting Rights Issues.

VII. State Advisory Committee Report:

• Reconciliation at a Crossroads: The Implications of Rice V. Cayetano on Programs for Native hawaiians (Hawaii);

• The Decision to Prosecute Drug Offense and Homicides in Marion County, Indiana (Indiana).

VIII. Future Agenda Items.

FOR FURTHER INFORMATION CONTACT: David Aronson, Press and Communications (202) 376-8312.

Edward A. Hailes, Jr.,
General Counsel.

[FR Doc. 01-5426 Filed 3-1-01; 2:24 pm]

BILLING CODE 6335-01-M